DEPARTMENT OF COMMERCE

International Trade Administration

[A-570-835]

Furfuryl Alcohol From the People's Republic of China: Continuation of Antidumping Duty Order

AGENCY: Enforcement and Compliance, International Trade Administration, Department of Commerce.

SUMMARY: As a result of determinations by the U.S. Department of Commerce (Commerce) and the U.S. International Trade Commission (ITC) that revocation of the antidumping duty (AD) order on furfuryl alcohol from the People's Republic of China (China) would likely lead to a continuation or recurrence of dumping and material injury to an industry in the United States, Commerce is publishing this notice of continuation of the AD order on furfuryl alcohol from China.

DATES: Applicable February 28, 2023

FOR FURTHER INFORMATION CONTACT: Matthew Palmer, AD/CVD Operations, Office III, Enforcement and Compliance, International Trade Administration, U.S. Department of Commerce, 1401 Constitution Avenue NW, Washington, DC 20230; telephone: (202) 482-1678.

SUPPLEMENTARY INFORMATION:

Background

On June 21, 1995, Commerce published the AD order on furfuryl alcohol from China.¹ On July 1, 2022, Commerce published the notice of initiation of the fifth sunset review of the Order, pursuant to section 751(c) of the Tariff Act of 1930, as amended (the Act).²

¹ See Notice of Antidumping Duty Order: Furfuryl Alcohol from the People's Republic of China (PRC), 60 FR 32302 (June 21, 1995) (Order).

² See Initiation of Five-Year (Sunset) Reviews, 87 FR 39459 (July 1, 2022).

As a result of its expedited review, on November 2, 2022, Commerce determined that revocation of the AD order on furfuryl alcohol from China would be likely to lead to a continuation or recurrence of dumping, and, therefore, notified the ITC of the magnitude of the margins likely to prevail should the Order be revoked.³ On February 15, 2023, the ITC published its determination, pursuant to section 751(c) of the Act, that revocation of the existing AD order on furfuryl alcohol from China would be likely to lead to a continuation or recurrence of material injury to an industry in the United States within a reasonably foreseeable time.⁴

³ See Furfuryl Alcohol from the People's Republic of China: Final Results of Expedited Fifth Sunset Review of Antidumping Duty Order, 87 FR 66127 (November 2, 2022).

⁴ See Furfuryl Alcohol from the People's Republic of China, Inv. No. 731-TA-703 (Fifth Review), USITC Publication 5407 (February 2023).

Scope of the Order

The merchandise covered by this Order is furfuryl alcohol (C4H3OCH2OH). Furfuryl alcohol is a primary alcohol, and is colorless or pale yellow in appearance. It is used in the manufacture of resins and as a wetting agent and solvent for coating resins, nitrocellulose, cellulose acetate, and other soluble dyes. The product subject to this Order is classifiable under subheading 2932.13.00 of the Harmonized Tariff Schedule of the United States (HTSUS). Although the HTSUS subheading is provided for convenience and customs purposes, the written description of the scope is dispositive.

Continuation of the Order

As a result of the determinations by Commerce and the ITC that revocation of the Order would be likely to lead to a continuation or recurrence of dumping, and material injury to an industry in the United States, pursuant to section 751(d)(2) of the Act, Commerce hereby orders the continuation of the AD order on furfuryl alcohol from China. U.S. Customs and Border Protection will continue to collect cash deposits at the rates in effect at the time of entry for all imports of subject merchandise. The effective date of the continuation of the Order will be the date of publication in the Federal Register of this notice of continuation. Pursuant to section 751(c)(2) of the Act, Commerce intends to initiate the next five-year review of the Order not later than 30 days prior to the fifth anniversary of the effective date of continuation.

Administrative Protective Order

This notice also serves as the only reminder to parties subject to an administrative protective order (APO) of their responsibility concerning the disposition of proprietary information disclosed under APO in accordance with 19 CFR 351.305(a)(3), which continues to govern business proprietary information in this segment of the proceeding. Timely notification of return/destruction or conversion to judicial protective order is hereby requested. Failure to comply is a violation of the APO which may be subject to sanctions.

Notification to Interested Parties

This five-year (sunset) review and this notice are in accordance with section 751(c) of the Act and published pursuant to section 777(i)(1) of the Act and 19 CFR 351.218(f)(4).

Dated: February 21, 2023.
Abdelali Elouaradia,
Deputy Assistant Secretary for Enforcement and Compliance.

[FR Doc. 2023-04045 Filed 2-27-23; 8:45 am]

BILLING CODE 3510-DS-P